ENVIRONMENTAL PROTECTION AGENCY

[FRL-9710-6]

Notification of a Public Meeting of the Clean Air Scientific Advisory Committee (CASAC) Ozone Review Panel

AGENCY: Environmental Protection Agency (EPA).

ACTION: Notice.

SUMMARY: The EPA Science Advisory Board (SAB) Staff Office announces a public meeting of the CASAC Ozone Review Panel to conduct a peer review of EPA's Integrated Science Assessment for Ozone and Related Photochemical Oxidants (Third External Review Draft) (June 2012), Health Risk and Exposure Assessment for Ozone—First External Review Draft (July 2012), Welfare Risk and Exposure Assessment for Ozone—First External Review Draft (July 2012 and Policy Assessment for the Review of the Ozone National Ambient Air Quality Standards—First External Review Draft (August 2012).

DATES: The CASAC Ozone Review Panel meeting will be held on Tuesday, September 11, 2012 from 9 a.m. to 5:30 p.m. (Eastern Time), Wednesday, September 12 from 8:30 a.m. to 5:30 p.m. (Eastern Time) and on Thursday, September 13, 2012 from 8:30 a.m. to 1 p.m. (Eastern Time).

ADDRESSES: The public meeting will be held at the Raleigh Marriott City Center, 500 Fayetteville Street, Raleigh, North Carolina 27601.

FOR FURTHER INFORMATION CONTACT: Any member of the public who wants further information concerning the public meeting may contact Dr. Holly Stallworth, Designated Federal Officer (DFO), via telephone at (202) 564-2073 or email at stallworth.holly@epa.gov. General information concerning the CASAC can be found on the EPA Web site at http://www.epa.gov/casac.

SUPPLEMENTARY INFORMATION: The CASAC was established pursuant to the Clean Air Act (CAA) Amendments of 1977, codified at 42 U.S.C. 7409D(d)(2), to provide advice, information, and recommendations to the Administrator on the scientific and technical aspects of issues related to the criteria for air quality standards, research related to air quality, sources of air pollution, and the strategies to attain and maintain air quality standards and to prevent significant deterioration of air quality. The CASAC is a Federal Advisory Committee chartered under the Federal Advisory Committee Act (FACA), 5 U.S.C., App. 2. Pursuant to FACA and EPA policy, notice is hereby given that the chartered CASAC augmented with additional experts, known as the CASAC Ozone Review Panel, will hold a public meeting to peer review EPA's third external review draft of the Integrated Science Assessment for Ozone and Related Photochemical Oxidants (June 2012), Health Risk and Exposure Assessment for Ozone—First External Review Draft (July 2012), Welfare Risk and Exposure Assessment for Ozone—First External Review Draft (July 20, and Policy Assessment for the Review of the Ozone National Ambient Air Quality Standards—First External Review Draft (August 2012). These EPA draft documents are prepared as part of the agency's review of the National Ambient Air Quality Standards (NAAQS) for ozone.

Section 109(d)(1) of the CAA requires that the Agency periodically review and revise, as appropriate, the air quality criteria and the NAAQS for the six “criteria” air pollutants, including ozone. EPA is currently reviewing the primary (health-based) and secondary (welfare-based) NAAQS for ozone. The CASAC previously reviewed EPA's first external review draft of the Integrated Science Assessment for Ozone and Related Photochemical Oxidants (March 2011) as reported in a letter to the EPA Administrator, dated August 10, 2011 (EPA-CASAC-11-009). The CASAC also reviewed the second external review draft of the Integrated Science Assessment for Ozone and Related Photochemical Oxidants (September 2011) as reported in a letter to the EPA Administrator, dated March 13, 2012 (EPA-CASAC-12-004). The CASAC Ozone Review Panel will comply with the provisions of FACA and all appropriate SAB Staff Office procedural policies.

Technical Contacts: Any technical questions concerning the Integrated Science Assessment for Ozone and Related Photochemical Oxidants (Third External Review Draft) (June 2012) should be directed to Dr. James Brown (brown.james@epa.gov). Any technical questions concerning the Health Risk and Exposure Assessment for Ozone—First External Review Draft (July 2012) or the Welfare Risk and Exposure Assessment for Ozone—First External Review Draft (July 2012) should be directed to Dr. Bryan Hubbell (hubbell.bryan@epa.gov). Any technical questions concerning the Policy Assessment for the Review of the Ozone National Ambient Air Quality Standards—First External Review Draft (August 2012) should be directed to Ms. Susan Lyon Stone (stone.susan@epa.gov).

Availability of Meeting Materials: Prior to the meeting, the review documents, agenda and other materials will be accessible through the calendar link on the blue navigation bar at http://www.epa.gov/casac/.

Procedures for Providing Public Input: Public comment for consideration by EPA's federal advisory committees and panels has a different purpose from public comment provided to EPA program offices. Therefore, the process for submitting comments to a federal advisory committee is different from the process used to submit comments to an EPA program office. Federal advisory committees and panels, including scientific advisory committees, provide independent advice to EPA. Members of the public can submit relevant comments for a federal advisory committee to consider pertaining to EPA's charge to the committee or review materials. Input from the public to the CASAC will have the most impact if it provides specific scientific, technical information or analysis or if it relates to the clarity or accuracy of the technical information for the CASAC's consideration. Members of the public wishing to provide comment should contact the Designated Federal Officer directly.

Oral Statements: In general, individuals or groups requesting an oral presentation at a public meeting will be limited to five minutes. Interested parties should contact Dr. Stallworth, DFO, in writing (preferably via email) at the contact information noted above by August 31, 2012, to be placed on the list of public speakers for the meeting.

Written Statements: Written statements should be submitted to the DFO via email at the contact information noted above by August 31, 2012 for the meeting so that the information may be made available to the CASAC Panel for their consideration. Written statements should be supplied in one of the following electronic formats: Adobe Acrobat PDF, MS Word, MS PowerPoint, or Rich Text files in IBM-PC/Windows 98/2000/XP format. It is the SAB Staff Office general policy to post public comments on the Web page for the advisory meeting or teleconference. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Dr. Holly Stallworth at (202) 564-2073 or stallworth.holly@epa.gov. To request accommodation of a disability, please contact Dr. Stallworth preferably at least ten days prior to the meeting to give EPA as much time as possible to process your request.

Dated: July 26, 2012.
Thomas H. Brennan,
Deputy Director, EPA Science Advisory Board Staff Office.

[FR Doc. 2012-19134 Filed 8-3-12; 8:45 am]

BILLING CODE 6560-50-P